DEPARTMENT OF COMMERCE

Bureau of Industry and Security

15 CFR Parts 730, 748 and 754

[Docket No. 110224166-1212-01]

RIN 0694-AF08

Paperwork Reduction Act: Updated List of Approved Information Collections and Removal of a Redundant Reporting Requirement

AGENCY: Bureau of Industry and Security, Commerce.

ACTION: Final rule.

SUMMARY: This rule makes several technical amendments to the Export Administration Regulations (EAR). This rule corrects one omission of a publication date in the authority citation paragraph of part 730 of the Export Administration Regulations. It revises the address of the Bureau of Industry and Security's (BIS) Western Regional Office at two places in the EAR to reflect the recent relocation of that office. Additionally, this rule updates the table of authorized information collection control numbers in Supplement No. 1 to part 730 of the EAR to reflect consolidation of several authorizations relating to license exceptions and exclusions into a single authorization with a single control number. Finally, this rule removes a requirement to report to BIS certain exports of oil transported from the North Slope of Alaska over Federal rights-of-way granted pursuant to section 203 of the Trans-Alaska Pipeline Authorization Act because BIS can now obtain this information from the Automated Export System (AES).

DATES: This rule is effective July 11, 2011.

FOR FURTHER INFORMATION CONTACT: William Arvin, Regulatory Policy Division, Office of Exporter Services, e-mail william.arvin@bis.doc.gov, telephone (202) 482-2440.

SUPPLEMENTARY INFORMATION:

Background

Through this rule, BIS is undertaking the following actions:

Adding Omitted Date to an Authority Citation

In a previous rule that, inter alia, updated the authority citation paragraph for part 730 of the EAR (76 FR 21631, April 18, 2011), BIS inadvertently omitted the publication date of the most recent Presidential notice listed in that paragraph. This rule corrects the omission by adding the date “January 18, 2011” to the end of the authority citation paragraph for part 730 of the EAR.

Updating Address and Telephone Number

Recently, BIS's Western Regional Office moved to a new location. This rule revises § 730.8(c) of the EAR to include the address and telephone number of the new location.

Consolidation of Information Collections

Supplement No. 1 to part 730 of the EAR contains a table that lists approved information collections that are related to the EAR. In 2010, the Office of Management and Budget approved BIS's requests to consolidate approved information collections that relate license exceptions or other exemptions from EAR requirements into a single approved collection with OMB control number 0694-0137, entitled “License Exemptions and Exclusions.” Accordingly, this rule removes the entries for OMB control numbers 0694-0023, 0694-0025, 0694-0027, 0694-0029, 0694-0033, 0694-0086, 0694-0101, 0694-0104, 0694-0106, 0694-0123 and 0694-0133 from the table and adds an entry for control number 0694-0137.

Removal of Redundant Reporting Requirement

In 1996, the Department of Commerce created License Exception TAPS to authorize the export of crude oil from the North Slope of Alaska and transported over Federal rights-of-way granted pursuant to section 203 of the Trans-Alaska Pipeline Authorization Act (61 FR 27255, May 31, 1996). This license exception required exporters to submit to the Bureau of Export Administration (the predecessor of BIS) a copy of the same Shippers Export Declaration that the exporter was required to submit to U.S. Customs for transmittal to the Bureau of the Census. Subsequently, U.S. Customs and the Bureau of the Census developed AES, and required all exporters to use it to electronically submit export related information that had previously been submitted via paper declaration. In 2010, the Bureau of the Census gave BIS authorization to access AES data specific to individual transactions. This authorization gave BIS access, via the AES system, to export data connected with License Exception TAPS. Due to this new access, BIS concluded that the separate reporting requirement created by the TAPS License Exception was redundant. Accordingly, this rule removes that reporting requirement from § 754.2 of the EAR.

Rulemaking Requirements

1. Executive Orders 13563 and 12866 direct agencies to assess all costs and benefits of available regulatory alternatives and, if regulation is necessary, to select regulatory approaches that maximize net benefits (including potential economic, environmental, public health and safety effects, distributive impacts, and equity). This rule reduces regulatory burdens on the public and accomplishes the goals of Executive Order 13563. This rule has been determined to be not significant for purposes of Executive Order 12866.

2. Notwithstanding any other provision of law, no person is required to respond to, nor is subject to a penalty for failure to comply with, a collection of information, subject to the requirements of the Paperwork Reduction Act of 1995 (44 U.S.C. 3501 et seq.) (PRA), unless that collection of information displays a currently valid Office of Management and Budget (OMB) Control Number. This rule affects a collection of information approved by OMB under control number 0607-0137: License Exemptions and Exclusions. BIS estimates that this rule will reduce the burden associated with that collection by 10 hours annually. Send comments regarding this burden estimate or any other aspect of this collection of information, including suggestions for reducing the burden, to Jasmeet Seehra, Office of Management and Budget (OMB), by e-mail to jseehra@omb.eop.gov, or by fax to (202) 395-7285; and to the Regulatory Policy Division, Bureau of Industry and Security, Department of Commerce, Room 2099B, 14th Street and Pennsylvania Ave., NW., Washington, DC 20230 or by e-mail to publiccomments@bis.doc.gov.

3. This rule does not contain policies with Federalism implications as that term is defined under E.O. 13132.

4. BIS finds that there is good cause under 5 U.S.C. 553(b)(3)(B) to waive the provisions of the Administrative Procedure Act requiring prior notice and the opportunity for public comment because they are unnecessary. This rule (1) updates a statement of legal authority to state completely the authority conferred by a Presidential decision; (2) updates an address and telephone number to accurately reflect current information about BIS's Western Regional Office; (3) updates a table of approved information collections to reflect decisions already made by the Office of Management and Budget; and (4) removes a requirement that certain exporters submit directly to BIS information that those same exporters are also required to submit to the government via the AES and that is now available to BIS via that same system. This rule makes no changes to the rights of any person under the EAR, nor does it impose any additional burdens or requirements on the public. The only change that this rule makes to any person's obligations under the EAR is to relieve some exporters of the requirement to report to BIS information that they have reported to another government agency and to which BIS now has ready access.

In addition, the 30-day delay in effectiveness required by 5 U.S.C. 553(d) is unnecessary and contrary to the public interest here, where BIS is updating an authority citation, an address and telephone number and the approved collections table because these are technical changes that do not alter any right, duty, obligation or prohibition that applies to any person under the EAR. The 30-day delay is inapplicable to the removal of the redundant reporting requirement that this rule provides because such removal grants an exemption from a requirement. Moreover, any delay in the effective date of the contact information for BIS's office may cause public confusion and/or errors by the public; thus delaying the effective date of this regulation is contrary to the public interest.

No other law requires that notice of proposed rulemaking and an opportunity for public comment be given for this rule; therefore, the analytical requirements of the Regulatory Flexibility Act (5 U.S.C. 601 et seq.) are not applicable.

List of Subjects

15 CFR Part 730

Administrative practice and procedure, Advisory committees, Exports, Reporting and recordkeeping requirements, Strategic and critical materials.

15 CFR Part 748

Administrative practice and procedure, Exports, Reporting and recordkeeping requirements.

15 CFR Part 754

Agricultural commodities, Exports, Forests and forest products, Horses, Petroleum, Reporting and recordkeeping requirements.

Accordingly, the Export Administration Regulations (15 CFR parts 730-774) are amended as follows:

PART 730—[AMENDED]

1. The authority citation for part 730 is revised to read as follows:

Authority: 50 U.S.C. app. 2401 et seq.; 50 U.S.C. 1701 et seq.; 10 U.S.C. 7420; 10 U.S.C. 7430(e); 22 U.S.C. 287c; 22 U.S.C. 2151 note; 22 U.S.C. 3201 et seq.; 22 U.S.C. 6004; 30 U.S.C. 185(s), 185(u); 42 U.S.C. 2139a; 42 U.S.C. 6212; 43 U.S.C. 1354; 15 U.S.C. 1824a; 50 U.S.C. app. 5; 22 U.S.C. 7201 et seq.; 22 U.S.C. 7210; E.O. 11912, 41 FR 15825, 3 CFR, 1976 Comp., p. 114; E.O. 12002, 42 FR 35623, 3 CFR, 1977 Comp., p.133; E.O. 12058, 43 FR 20947, 3 CFR, 1978 Comp., p. 179; E.O. 12214, 45 FR 29783, 3 CFR, 1980 Comp., p. 256; E.O. 12851, 58 FR 33181, 3 CFR, 1993 Comp., p. 608; E.O. 12854, 58 FR 36587, 3 CFR, 1993 Comp., p. 179; E.O. 12918, 59 FR 28205, 3 CFR, 1994 Comp., p. 899; E.O. 12938, 59 FR 59099, 3 CFR, 1994 Comp., p. 950; E.O. 12947, 60 FR 5079, 3 CFR, 1995 Comp., p. 356; E.O. 12981, 60 FR 62981, 3 CFR, 1995 Comp., p. 419; E.O. 13020, 61 FR 54079, 3 CFR, 1996 Comp., p. 219; E.O. 13026, 61 FR 58767, 3 CFR, 1996 Comp., p. 228; E.O. 13099, 63 FR 45167, 3 CFR, 1998 Comp., p.208; E.O. 13222, 66 FR 44025, 3 CFR, 2001 Comp., p. 783; E.O. 13224, 66 FR 49079, 3 CFR, 2001 Comp., p. 786; E.O. 13338, 69 FR 26751, 3 CFR, 2004 Comp., p. 168; Notice of August 12, 2010, 75 FR 50681 (August 16, 2010); Notice of November 4, 2010, 75 FR 68673 (November 8, 2010); Notice of January 13, 2011, 76 FR 3009 (January 18, 2011).

2. Section 730.8 is amended by revising the last sentence in paragraph (c) to read as follows:

§ 730.8 How to proceed and where to get help.

* * * * *

(c) * * * General information including assistance in understanding the EAR, information on how to obtain forms, electronic services, publications, and information on training programs offered by BIS, is available from the Office of Export Services at the following locations: Outreach and Educational Services Division, U.S. Department of Commerce, 14th and Pennsylvania Avenue, NW., Room H1099D, Washington, DC 20230, Tel: (202) 482-4811, Fax: (202) 482-2927, and Bureau of Industry and Security, Western Regional Office, U.S. Department of Commerce, 2302 Martin St., Suite 330, Irvine, CA 92612, Tel: (949) 660-0144, Fax: (949) 660-9347, and Bureau of Industry and Security, Western Regional Office, Northern California Branch, U.S. Department of Commerce, 160 W. Santa Clara Street, Suite 725, San Jose, CA 95113, Tel: (408) 998-8806, Fax: (408) 998-8677.

3. The table in Supplement No. 1 to part 730 is amended by:

a. Removing the entries for collection numbers 0694-0023, 0694-0025, 0694-0027, 0694-0029, 0694-0033, 0694-0086, 0694-0101, 0694-0104, 0694-0106, 0694-0123 and 0694-0133; and

b. Adding immediately following the entry for collection number 0694-0134 and immediately preceding the entry for collection number 0607-0152, a new entry for collection number 0694-0137 to read as follows:

Supplement No. 1 to Part 730—Information Collection Requirements Under the Paperwork Reduction Act: OMB Control Numbers

Collection No. | Title | Reference in the EAR
* * * * * * *
0694-0137 | License Exemptions and Exclusions | § 734.4, Supplement No. 2 to part 734, §§ 740.3(d), 740.4(c), 740.9(a)(2)(viii)(B), 740.9(c), 740.13(e), 740.12(b)(7), 740.17, 740.18, Supp. No. 2 to Part 740, §§ 742.15, 743.1, 743.3, 754.2, 754.4, 762.2(b) and Supplement No. 1 to part 774
* * * * * * *

* * * * *

PART 748—[AMENDED]

4. The authority citation for part 748 continues to read as follows:

Authority: 50 U.S.C. app. 2401 et seq.; 50 U.S.C. 1701 et seq.; E.O. 13026, 61 FR 58767, 3 CFR, 1996 Comp., p. 228; E.O. 13222, 66 FR 44025, 3 CFR, 2001 Comp., p. 783; Notice of August 12, 2010, 75 FR 50681 (August 16, 2010).

5. Section 748.2 is amended by revising paragraph (a) to read as follows:

§ 748.2 Obtaining forms; mailing addresses.

(a) You may obtain the forms required by the EAR from any U.S. Department of Commerce District Office; or in person or by telephone or facsimile from the following BIS offices:

(1) Outreach and Educational Services Division, U.S. Department of Commerce, 14th Street and Pennsylvania Ave., NW., Room H1099D, Washington, DC 20230, Tel: (202) 482-4811, Fax: (202) 482-2927, or

(2) Western Regional Office, Northern California Branch, U.S. Department of Commerce, 2302 Martin St., Suite 330, Irvine, CA 92612, Tel: (949) 660-0144, Fax: (949) 660-9347, or

(3) Bureau of Industry and Security, 160 W. Santa Clara Street, Suite 725, San Jose, CA 95113, Tel: (408) 998-8805 or (408) 998-8806, Fax: (408) 998-8677.

* * * * *

PART 754—[AMENDED]

6. The authority citation for part 754 continues to read as follows:

Authority: 50 U.S.C. app. 2401 et seq.; 50 U.S.C. 1701 et seq.; 10 U.S.C. 7420; 10 U.S.C. 7430(e); 30 U.S.C. 185(s), 185(u); 42 U.S.C. 6212; 43 U.S.C. 1354; 15 U.S.C. 1824a; E.O. 11912, 41 FR 15825, 3 CFR, 1976 Comp., p. 114; E.O. 13222, 66 FR 44025, 3 CFR, 2001 Comp., p. 783; Notice of August 12, 2010, 75 FR 50681 (August 16, 2010).

§ 754.2—[Amended]

7. Section 754.2 is amended by removing paragraph (j)(2) and redesignating paragraph (j)(3) as paragraph (j)(2) .

Dated July 1, 2011.
Matthew S. Borman,
Acting Assistant Secretary for Export Administration.

[FR Doc. 2011-17356 Filed 7-8-11; 8:45 am]

BILLING CODE 3510-33-P